FEDERAL ELECTION COMMISSION

Sunshine Act Notices

AGENCY: Federal Election Commission.

Cancellations: Executive Session Scheduled for Tuesday, April 28, 2009.

Executive Session Scheduled for Wednesday, April 29, 2009.

Open Meeting Scheduled for Thursday, April 30, 2009.

Date and Time: Thursday, April 30, 2009, at 10 a.m.

Tuesday, May 5, 2009, at 10 a.m.

Wednesday, May 6, at 10 a.m.

Place: 999 E Street, NW., Washington, DC.

Status: These meetings will be closed to the public.

Items to be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

* * * * *

Person to Contact for Information: Judith Ingram, Press Officer, Telephone: (202) 694-1220.

Mary W. Dove,
Secretary of the Commission.

[FR Doc. E9-10092 Filed 5-1-09; 8:45 am]

BILLING CODE 6715-01-M